DEPARTMENT OF JUSTICE

Antitrust Division

Notice Pursuant to the National Cooperative Research and Production Act of 1993—Marine Well Containment Venture

Notice is hereby given that, on August 18, 2010, pursuant to Section 6(a) of the National Cooperative Research and Production Act of 1993, 15 U.S.C. 4301 et seq. (“the Act”), Marine Well Containment Venture (“MWCV”) has filed written notifications simultaneously with the Attorney General and the Federal Trade Commission disclosing (1) the identities and nationalities of the parties to the production venture and any person who controls a party to the venture and (2) the nature and objectives of the venture. The notifications were filed for the purpose of invoking the Act's provisions limiting the recovery of antitrust plaintiffs to actual damages under specified circumstances.

Pursuant to Section 6(b) of the Act, the identities of the parties to the venture are: Chevron USA, Inc., Houston, TX; ConocoPhillips Co., Houston, TX; ExxonMobil Development Co., Houston, TX; and Shell Offshore Inc., Houston, TX. The general area of MWCV's planned activity is (i) to design, produce (assemble and/or construct), operate, maintain, and own a system to provide emergency hydrocarbon well containment and related non-emergency services in the Gulf of Mexico and potentially in other regions; and (ii) to perform and sponsor related research and development activities.

Patricia A. Brink,
Deputy Director of Operations, Antitrust Division.

[FR Doc. 2010-25206 Filed 10-8-10; 8:45 am]

BILLING CODE 4410-11-M